ENVIRONMENTAL PROTECTION AGENCY

40 CFR Part 52

[EPA-R03-OAR-2015-0530; FRL-9939-99-Region 3]

Approval and Promulgation of Air Quality Implementation Plans; Maryland; Maryland's Negative Declaration for the Automobile and Light-Duty Truck Assembly Coatings Control Techniques Guidelines

AGENCY: Environmental Protection Agency (EPA).

ACTION: Final rule.

SUMMARY: The Environmental Protection Agency (EPA) is approving a State Implementation Plan (SIP) revision submitted by the State of Maryland. This revision pertains to a negative declaration for the Automobile and Light-Duty Truck Assembly Coatings Control Techniques Guidelines (CTG). EPA is approving this revision in accordance with the requirements of the Clean Air Act (CAA).

DATES: This final rule is effective on January 11, 2016.

ADDRESSES: EPA has established a docket for this action under Docket ID Number EPA-R03-OAR-2015-0530. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available through www.regulations.gov or may be viewed during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Irene Shandruk, (215) 814-2166, or by email at shandruk.irene@epa.gov.

SUPPLEMENTARY INFORMATION:

I. Background

Section 172(c)(1) of the CAA provides that SIPs for nonattainment areas must include reasonably available control measures (RACM), including reasonably available control technology (RACT), for sources of emissions. Section 182(b)(2)(A) provides that for certain ozone nonattainment areas, states must revise their SIP to include RACT for sources of volatile organic compound (VOC) emissions covered by a CTG document issued after November 15, 1990 and prior to the area's date of attainment. EPA defines RACT as “the lowest emission limitation that a particular source is capable of meeting by the application of control technology that is reasonably available considering technological and economic feasibility.” 44 FR 53761 (September 17, 1979).

CTGs are documents issued by EPA intended to provide state and local air pollution control authorities information to assist them in determining RACT for VOCs from various sources. Section 183(e)(3)(c) provides that EPA may issue a CTG in lieu of a national regulation as RACT for a product category where EPA determines that the CTG will be substantially as effective as regulations in reducing emissions of VOCs, which contribute to ozone levels, in ozone nonattainment areas. The recommendations in the CTG are based upon available data and information and may not apply to a particular situation based upon the circumstances.

In 1977, EPA published a CTG for automobile and light-duty truck assembly coatings. After reviewing the 1977 CTG for this industry, conducting a review of currently existing state and local VOC emission reduction approaches for this industry, and taking into account any information that has become available since then, EPA developed a new CTG entitled Control Techniques Guidelines for Automobile and Light-duty Assembly Coatings (Publication No. EPA 453/R-08-006; September 2008).

States can follow the CTG and adopt state regulations to implement the recommendations contained therein. Alternatively, states can adopt a negative declaration documenting that there are no sources or emitting facilities within the state to which the CTG is applicable. The negative declaration must go through the same public review process as any other SIP submittal.

II. Summary of SIP Revision

On July 15, 2015, EPA received from the Maryland Department of the Environment (MDE) a SIP revision (#15-03), dated June 25, 2015, concerning a negative declaration for the Automobile and Light-Duty Truck Assembly Coatings CTG. MDE stated that the state previously had one source to which this CTG was applicable; however, the source had permanently shut down and dismantled all their equipment as of September 2005. EPA reviewed an inspection report provided by MDE indicating that the sole source to which this CTG would have been applicable did indeed permanently shut down in 2005. Additionally, EPA conducted an internet search of key terms relevant to the Automobile and Light-Duty Truck Assembly Coatings CTG and confirmed that there are no sources or emitting facilities in the State of Maryland to which this CTG is applicable. On October 6, 2015 (80 FR 60318), EPA published a notice of proposed rulemaking (NPR) for the State of Maryland proposing approval of the negative declaration for the Automobile and Light-Duty Truck Assembly Coatings CTG. No public comments were received on the NPR.

III. Final Action

EPA is approving the Maryland SIP revision concerning the negative declaration for the Automobile and Light-Duty Truck Assembly Coatings CTG, which was submitted on June 25, 2015, as a revision to the Maryland SIP in accordance with sections 172 (c), 182 (b), and 183 (e) of the CAA.

IV. Statutory and Executive Order Reviews

A. General Requirements

Under the CAA, the Administrator is required to approve a SIP submission that complies with the provisions of the CAA and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by February 9, 2016. Filing a petition for reconsideration by the Administrator of this final rule does not affect the finality of this action for the purposes of judicial review nor does it extend the time within which a petition for judicial review may be filed, and shall not postpone the effectiveness of such rule or action.

This action concerning Maryland's negative declaration for the Automobile and Light-Duty Truck Assembly Coatings CTG may not be challenged later in proceedings to enforce its requirements. (See section 307(b)(2).)

List of Subjects in 40 CFR Part 52

Environmental protection, Air pollution control, Incorporation by reference, Nitrogen dioxide, Ozone, Volatile organic compounds.

Dated: November 25, 2015.
Shawn M. Garvin,
Regional Administrator, Region III.

40 CFR part 52 is amended as follows:

PART 52—APPROVAL AND PROMULGATION OF IMPLEMENTATION PLANS

1. The authority citation for part 52 continues to read as follows:

Authority: 42 U.S.C. 7401 et seq.

Subpart V—Maryland

In § 52.1070, the table in paragraph (e) is amended by adding the entry, “Negative Declaration for the Automobile and Light-Duty Truck Assembly Coatings CTG,” at the end of the table to read as follows:

§ 52.1070 Identification of plan.

* * * * *

(e)* * *

Name of non-regulatory SIP revision | Applicable geographic area | State submittal date | EPA Approval date | Additional explanation
* * * * * * *
Negative Declaration for the Automobile and Light-Duty Truck Assembly Coatings CTG | Statewide | 6/25/15 | 12/11/15 [Insert Federal Register citation]

[FR Doc. 2015-31203 Filed 12-10-15; 8:45 am]

BILLING CODE 6560-50-P